ENVIRONMENTAL PROTECTION AGENCY

[FRL-9939-22-OARM]

Senior Executive Service Performance Review Board; Membership

AGENCY: U.S. Environmental Protection Agency (EPA).

ACTION: Notice.

SUMMARY: Notice is hereby given of the membership of the U.S. Environmental Protection Agency (EPA) Performance Review Board for 2015.

FOR FURTHER INFORMATION CONTACT: Karen D. Higginbotham, Director, Executive Resources Division, 3606A, Office of Human Resources, Office of Administration and Resources Management, U.S. Environmental Protection Agency, 1200 Pennsylvania Avenue NW., Washington, DC 20460 (202) 564-7287.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2015 EPA Performance Review Board are:

Richard Albright, Director, Office of Environmental Cleanup, Region 10

John Armstead, Director, Land and Chemicals Division, Region 3

Beverly Banister, Director, Air, Pesticides and Toxics Management Division, Region 4

Amy Battaglia, Director, Office of Program Accountability and Resources Management, Office of Research and Development

Denise Benjamin-Sirmons, Director, Office of Diversity, Advisory Committee Management and Outreach, Office of Administration and Resources Managment

Jerry Blancato, Director, Office of Science Information Management, Office of Research and Development

David Bloom, Acting Chief Financial Officer, Office of the Chief Financial Officer

Michael Brincks, Assistant Regional Administrator for Policy & Management, Region 7

Jeanne Briskin, Research Program Manager, Office of Research and Development

Karl Brooks, Acting Assistant Administrator, Office of Administration and Resources Managment

Rebecca Clark, Deputy Director, Office of Ground Water and Drinking Water, Office of Water

Sam Coleman, Deputy Regional Administrator, Region 6

Barbara A. Cunningham, Deputy Director, Office of Pollution Prevention and Toxics (Management), Office of Chemical Safety and Pollution Prevention

Rafael DeLeon, Deputy Director, Office of Site Remediation Enforcement, Office of Enforcement and Compliance Assurance

Alfred P. Dufour, Senior Research Microbiologist, Office of Research and Development

Alan Farmer, Director, Resource Conservation and Recovery Act Division, Region 4

John Filippelli, Director, Clean Air and Sustainability Division, Region 2

Karen Flournoy, Director, Water, Wetlands and Pesticides Division, Region 7

Michael Flynn, Director, Office of Radiation and Indoor Air, Office of Air and Radiation

Joyce Frank, Principal Deputy Associate Administrator for Congressional and Intergovernmental Relations, Office of the Administrator

Velveta Golightly-Howell, (Ex-Officio), Director, Office of Civil Rights, Office of the Administrator

Angela Freeman, Deputy Director, Office of Human Resources, Office of Administration and Resources Management

Karen D. Higginbotham (Ex-Officio), Director, Executive Resources Division, Office of Human Resources, Office of Administration and Resources Management

Randy Hill, Deputy Assistant Administrator, Office of International and Tribal Affairs

W. Barnes Johnson, Director, Office of Resource Conservation and Recovery, Office of Solid Waste and Emergency Response

Richard Karl, Director, Superfund Division, Region 5

Michael Kenyon, Assistant Regional Administrator for Administration and Resources Management, Region 1

Richard Keigwin, Director, Special Review and Reregistration Division, Office of Chemical Safety and Pollution Prevention

Jeff Lape, Deputy Director, Office of Science and Technology, Office of Water

David Lloyd, Director, Office of Brownfields and Land Revitalization, Office of Solid Waste and Emergency Response and Compliance Assurance

Robert McKinney, Senior Agency Information Security Officer, Office of Environmental Information

Rebecca Moser, Deputy Director, Office of Information Collection, Office of Environment Information

Aracely Nunez-Mattocks, Chief of Staff, Office of Inspector General

Elise Packard, Associate General Counsel, Civil Rights and Finance Law, Office of General Counsel

Michelle Pirzadeh, Deputy Administrator, Region 10

John Reeder, Deputy Chief of Staff, Office of the Administrator

Christopher Robbins, Acting Principal Deputy Assistant Administrator, Office of Research and Development

Carol Ann Siciliano, Associate General Counsel, Cross-Cutting Issues, Office of General Counsel

Stefan Silzer, Director, Office of Financial Management, Office of the Chief Financial Officer

Walker Smith, Director, Office of Global Affairs and Policy, Office of International and Tribal Affairs

Allyn Stern, Regional Counsel, Region 10, Office of Enforcement and Compliance Assurance

Alexis Strauss, Deputy Regional Administrator, Region 9

Susan Studlien, Director, Office of Environmental Stewardship, Region 1

Kevin Teichman, Senior Science Advisor, Office of Research and Development

Debra Thomas, Deputy Regional Administrator, Region 8

Donna Vizian, Principal Deputy Assistant Administrator, Office of Administration and Resources Management

Anna Wood, Director, Air Quality Policy Division, Office of Air and Radiation

Jeffery Wells, Deputy Director, Office of Information Analysis and Access, Office of Environmental Information

Christopher Zarba, Director, Science Advisory Board Staff Office, Office of the Administrator

Dated: November 13, 2015.
Karl Brooks,
Acting Assistant Administrator, Office of Administration and Resources Management.

[FR Doc. 2015-29801 Filed 11-20-15; 8:45 am]

BILLING CODE 6560-50-P